NATIONAL AERONAUTICS AND SPACE ADMINISTRATION

[Notice (11-065)]

Notice of Information Collection

AGENCY: National Aeronautics and Space Administration (NASA).

ACTION: Notice of information collection.

SUMMARY: The National Aeronautics and Space Administration, as part of its continuing effort to reduce paperwork and respondent burden, invites the general public and other Federal agencies to take this opportunity to comment on proposed and/or continuing information collections, as required by the Paperwork Reduction Act of 1995 (Pub. L. 104-13, 44 U.S.C. 3506(c)(2)(A)).

DATES: All comments should be submitted within September 12, 2011.

ADDRESSES: All comments should be addressed to Lori Parker, National Aeronautics and Space Administration, Washington, DC 20546-0001.

FOR FURTHER INFORMATION CONTACT: Requests for additional information or copies of the information collection instrument(s) and instructions should be directed to Lori Parker, NASA PRA Officer, NASA Headquarters, 300 E Street, SW., JF000, Washington, DC 20546, (202) 358-1351, Lori.Parker@nasa.gov.

SUPPLEMENTARY INFORMATION:

I. Abstract

NASA's education and outreach activities are funded by NASA's Office of Education, Mission Directorates, and Offices of Chief Technologist and Communications. NASA's Education Coordinating Council includes representatives from each of NASA's field Centers plus the Jet Propulsion Laboratory (JPL), which deliver education and outreach. Data collection to be covered by this request are organized around three goals: (1) Contribute to the development of the Science, Technology, Engineering, Mathematics (STEM) workforce in disciplines needed to achieve NASA's strategic goals, through a portfolio of investments; (2) attract and retain students in STEM disciplines through a progression of educational opportunities for students, teachers, and faculty; and (3) build between STEM formal and informal education providers strategic partnerships and linkages that promote STEM literacy and awareness of NASA's missions.

The new NASA STEM Education and Outreach Generic Clearance is modeled on the National Science Foundation's (NSF) Education Generic Clearance (OMB 3145-0136). The scope of NASA's proposed data collection is limited as was agreed in discussions conducted among NASA, NSF and OMB in October 2010 to (1) Staff and project participants; (2) project implementation characteristics and (3) project outputs.

The collection covers only descriptive information gathered through a variety of methods, including surveys, face-to-face or telephone interviews, observations, and focus groups, from participants or implementers of NASA-funded education or outreach projects. Data is gathered from stakeholders and other program participants, including but not limited to students, faculty, teachers, members of the public, administrators and staff. NASA will use data from the NASA STEM Education and Outreach Generic Clearance primarily for program planning, management and accountability purposes in order to respond to queries from the Congress, the public and to support Government and Performance Modernization Act (GPRMA) requirements, and similar Federal performance reporting purposes, such as to the U.S. Government Accountability Office (GAO). In 2011, GAO was asked by the U.S. Congress to conduct a study to catalog Federal STEM education programs and determine the extent to which overlap or potential duplication exists. This Generic Clearance will enable NASA to respond to future such requests that seek information from Federal departments and agencies that will enable GAO to assemble a compendium of Federal education programs (pre-kindergarten through doctorate). Items in the survey are informed by the 2011 experience.

Information from this collection may also be published as part of NASA Education Highlights documents that are available via the NASA Web site at: http://www.nasa.gov/offices/education/performance/index.html.

This information is required for effective administration and communication relating to program and project monitoring and evaluation, and for measuring attainment of NASA's program, project and goals. Further, some data collected may serve as baseline data for future, separate, research or evaluation studies, or for the identification of treatment and control groups for future study. In keeping with protocols long-established between NSF and OMB, NASA proposed evaluation or research study will be cleared with OMB separately and will include separate calls for public comment.

II. Method of Collection

Electronic.

III. Data

Title: NASA STEM Education Generic Clearance.

OMB Number: 2700-xxxx.

Type of review: Regular.

Affected Public: Individuals or households, not-for-profit institutions, business or other for profit, and Federal, State, local or Tribal government.

Number of Respondents: 2,236,000.

Responses per Respondent: 1.

Annual Responses: 2,444,000.

Hours per Request: 0.15-.5 hour.

Annual Burden Hours: 245,333.

Frequency of Report: On occasion, quarterly, semi-annually, annually.

IV. Request for Comments

Comments are invited on: (1) Whether the proposed collection of information is necessary for the proper performance of the functions of NASA, including whether the information collected has practical utility; (2) the accuracy of NASA's estimate of the burden (including hours and cost) of the proposed collection of information; (3) ways to enhance the quality, utility, and clarity of the information to be collected; and (4) ways to minimize the burden of the collection of information on respondents, including automated collection techniques or the use of other forms of information technology.

Comments submitted in response to this notice will be summarized and included in the request for OMB approval of this information collection. They will also become a matter of public record.

Lori Parker,
NASA PRA Clearance Officer.

[FR Doc. 2011-17667 Filed 7-13-11; 8:45 am]

BILLING CODE 7510-13-P